ENVIRONMENTAL PROTECTION AGENCY

40 CFR Part 52

[NC104-200239(b); FRL-7400-5]

Approval and Promulgation of Implementation Plans; North Carolina: Approval of Revisions to Inspection and Maintenance (I/M) Regulations Within the North Carolina State Implementation Plan

AGENCY: Environmental Protection Agency (EPA).

ACTION: Proposed rule.

SUMMARY: The EPA is proposing to approve the State Implementation Plan (SIP) revision submitted by the State of North Carolina for the purpose of amending regulations within 15A NCAC 2D.1000 Motor Vehicle Emissions Control Standards. North Carolina has submitted these rules for an enhanced inspection and maintenance (I/M) program which is a component of the State's Nitrogen Oxides (NOX) Budget and Allowance Trading Program. The I/M program establishes reductions which are being utilized by the State as part of their NOX SIP budget. Approval of these I/M rules allow North Carolina to gain credits ranging from 914 tons in 2004 to 4,385 credits in 2007. These credits are then used to determine the number of credits that will be made available for new growth in North Carolina. This submittal resolves all outstanding issues and allows for EPA's final approval of the State's NOX Budget and Allowance Trading Program. The final approval of the North Carolina NOX Budget and Allowance Trading Program, which was proposed for approval in 67 FR 42519 and received no adverse comments, will be processed in a later action. In the Final Rules Section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before November 29, 2002.

ADDRESSES: All comments should be addressed to: Randy Terry at the EPA, Region 4 Air Planning Branch, 61 Forsyth Street, SW., Atlanta, Georgia 30303.

Copies of the State submittal(s) are available at the following addresses for inspection during normal business hours:

Environmental Protection Agency, Region 4, Air Planning Branch, 61 Forsyth Street, SW., Atlanta, Georgia 30303-8960. Randy Terry, 404/562-9032.

North Carolina Department of Environment, Health, and Natural Resources, 512 North Salisbury Street, Raleigh, North Carolina 27604.

FOR FURTHER INFORMATION CONTACT: Randy B. Terry at 404/562-9032.

SUPPLEMENTARY INFORMATION: For additional information see the direct final rule which is published in the Rules Section of this Federal Register.

Dated: October 21, 2002.
A. Stanley Meiburg,
Acting Regional Administrator, Region 4.

[FR Doc. 02-27496 Filed 10-29-02; 8:45 am]

BILLING CODE 6560-50-P